DEPARTMENT OF AGRICULTURE

Submission for OMB Review; Comment Request

August 17, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Nutrition Assistance in Farmers' Markets: Understanding Shipping Patterns.

OMB Control Number: 0584-0564.

Summary of Collection: The USDA, Food and Nutrition Service (FNS), is pursuing initiatives to improve access to healthy foods among nutrition assistance program clients. Among these are steps to support access to fresh fruits and vegetables through farmers' markets. The overall objective of this collection is to promote opportunities for nutrition assistance program clients to take advantage of farmers' markets. In order to meet this objective, FNS needs to examine the reasons behind the shopping decision at farmers' markets among recipients of Supplemental Nutrition Assistance Program (SNAP) benefits. FNS will conduct a survey with SNAP participants who purchase food in a catchment area around a nationally representative sample of farmers' markets that redeemed at least $1,000 of SNAP benefits from July 2010 through June 2011. The collection is authorized under Section 17 (7 U.S.C. 2026) (a)(1) of the Food and Nutrition Act of 2008

Need and Use of the Information: The objectives of this study are to: (1) Understand the shopping patterns of the SNAP participants redeeming benefits at farmers' markets, (2) understanding why some SNAP households do not shop at farmers' markets, (3) understanding the characteristics of the farmers' markets serving the participants surveyed. The information gathered in the survey and focus groups will be used by FNS to understand the facilitators and barriers for SNAP participants to shop at farmers' markets. If the information collection is not conducted, USDA/FNS will be unable to improve its understanding of what factors influence SNAP shoppers' decisions to shop at farmers' markets, in order to identify policy changes that could attract program participants to healthier and fresher foods.

Description of Respondents: Individuals or households.

Number of Respondents: 8,468.

Frequency of Responses: Report: On occasion.

Total Burden Hours: 21,207.

Ruth Brown,
Departmental Information Collection Clearance Officer.

[FR Doc. 2012-20634 Filed 8-21-12; 8:45 am]

BILLING CODE 3410-30-P